ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC, Thursday and Friday, April 3-4, 2008 at the times and location noted below.

DATES: The schedule of events is as follows:

Thursday, April 3, 2008

10-11 a.m. Budget Committee.

11-Noon Technical Programs Committee.

1:30-2:30 p.m. Executive Committee.

3-6 p.m. Telecommunications and Electronic and Information Technology Advisory Committee (TEITAC) Report.

Friday, April 4, 2008

9-3:30 p.m. Ad Hoc Committee Rulemaking Meetings (Closed to Public).

3:30-5 p.m. Board Meeting.

ADDRESSES: Except for the Telecommunications and Electronic and Information Technology Advisory Committee (TEITAC) presentation to the full Board, all meetings will be held at the Marriott at Metro Center Hotel, 775 12th Street, NW., Washington, DC, 20005. The TEITAC presentation will take place at the Grand Hyatt Hotel (Constitution Ballrooms C, D, and E), 1000 H Street, NW., Washington, DC 20001.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the June, September, and November 2007 draft Board meeting minutes.

• ADA/ABA Accessibility Guidelines; Federal Agency Updates.

• Budget Committee Report.

• Technical Programs Committee Report.

• Executive Committee Report.

• Rulemaking Reports.

• Election Assistance Commission Activities Report.

• Election of Officers.

All meetings are accessible to persons with disabilities. An assistive listening system, computer assisted real-time transcription (CART), and sign language interpreters will be available at the Board meetings. Persons attending Board meetings are requested to refrain from using perfume, cologne, and other fragrances for the comfort of other participants.

Lawrence W. Roffee,
Executive Director.

[FR Doc. E8-6587 Filed 3-31-08; 8:45 am]

BILLING CODE 8150-01-P